DEPARTMENT OF HOMELAND SECURITY

Coast Guard

33 CFR Part 100

[CGD01-03-051]

Special Local Regulation: City of Stamford Fireworks, Stamford, CT

AGENCY: Coast Guard, DHS.

ACTION: Notice of implementation of regulation.

SUMMARY: This notice puts into effect the permanent regulations for the annual City of Stamford, CT fireworks. The regulation is necessary to control vessel traffic within the immediate vicinity of the event due to the hazards presented by a fireworks display to the maritime community, thus providing for the safety of life and property on the affected navigable waters.

DATES: The regulations in 33 CFR 100.114 (7.8) are effective from 8 p.m. on July 3, 2003 through 10 p.m. on July 5, 2003. This rule will be enforced on July 3, 2003 from 8 p.m. through 10 p.m. If the fireworks display is cancelled due to weather, this rule will be enforced on July 5, 2003 from 8 p.m. through 10 p.m.

FOR FURTHER INFORMATION CONTACT: Petty Officer Austin Nagle, Office of Search and Rescue, First Coast Guard District, (617) 223-8460.

SUPPLEMENTARY INFORMATION: This notice implements the permanent special local regulation governing the Stamford Fireworks, Stamford, CT. A portion of Westcott Cove, Stamford, CT will be closed during the effective period to all vessel traffic, except the fireworks barge and local, state or Coast Guard patrol craft. The regulated area is that area of Westcott Cove in a 500-yard radius of the fireworks launch platform located at approximate position 41°02′01″ N, 73°30′3″ W. All coordinates are North American Datum 1983. Additional public notification will be made via the First Coast Guard District Local Notice to Mariners and marine safety broadcasts. The full text of this regulation is found in 33 CFR 100.114.

Dated: June 10, 2003.
John L. Grenier,
Captain, Coast Guard, Acting Commander, First Coast Guard District.

[FR Doc. 03-16968 Filed 7-3-03; 8:45 am]

BILLING CODE 4910-15-U